DEPARTMENT OF HOMELAND SECURITY

Coast Guard

[Docket No. USCG-2019-0749]

National Boating Safety Advisory Committee; Initial Solicitation for Members

AGENCY: U.S. Coast Guard, Department of Homeland Security.

ACTION: Request for applications.

SUMMARY: The Coast Guard is requesting applications from persons interested in serving as a member of the National Boating Safety Advisory Committee (“Committee”). This recently established Committee will advise the Secretary of the Department of Homeland Security on matters relating to national boating safety. Please read this notice for a description of the 21 Committee positions we are seeking to fill.

DATES: Your completed application should reach the Coast Guard on or before April 6, 2020.

ADDRESSES: Applicants should send a cover letter expressing interest in an appointment to the National Boating Safety Advisory Committee and a resume detailing the applicant's experience. We will not accept a biography. Applications should be submitted via one of the following methods:

• By Email: NBSAC@uscg.mil (preferred).

• By Mail: Commandant (CG-BSX-2), Attn: NBSAC ADFO, U.S. Coast Guard Stop 7501, 2703 Martin Luther King Jr. Avenue SE, Washington, DC 20593-7501.

FOR FURTHER INFORMATION CONTACT: Mr. Jeff Decker, Alternate Designated Federal Officer of the National Boating Safety Advisory Committee; Telephone 202-372-1507 or Email at NBSAC@uscg.mil.

SUPPLEMENTARY INFORMATION: The National Boating Safety Advisory Committee is a federal advisory committee. It will operate under the provisions of the Federal Advisory Committee Act, 5 U.S.C. Appendix, and the administrative provisions in Section 601 of the Frank LoBiondo Coast Guard Authorization Act of 2018 (specifically, 46 U.S.C. 15109).

The Committee was established on December 4, 2018, by the Frank LoBiondo Coast Guard Authorization Act of 2018, which added section 15105, National Boating Safety Advisory Committee, to Title 46 of the U.S. Code (46 U.S.C. 15105). The Committee will advise the Secretary of Homeland Security on matters relating to national boating safety.

We expect the Committee will hold meetings at least twice a year, but it may meet even more frequently. The Committee is required to meet at least once a year in accordance with 46 U.S.C. 15109(a). The meetings are held at a location selected by the U.S. Coast Guard.

All members serve at their own expense and receive no salary or other compensation from the Federal Government. Members may be reimbursed, however, for travel and per diem in accordance with Federal Travel Regulations.

Under provisions in 46 U.S.C. 15109(f)(6), if you are appointed as a member of the Committee, your membership term will expire on December 31 of the third full year after the effective date of your appointment. The Secretary may require an individual to have passed an appropriate security background examination before appointment to the Committee, 46 U.S.C. 15109(f)(4). In this initial solicitation for Committee members, we will consider applications for all 21 positions:

• Seven members shall represent State officials responsible for State boating safety programs;

• Seven members shall represent recreational boat and associated equipment manufacturers;

• Seven members shall represent the general public or national recreational boating organizations and, of the seven, at least five shall represent national recreational boating organizations.

Each member of the Committee must have particular expertise, knowledge, and experience in matters relating to the function of the Committee, which is to advise the Secretary of Homeland Security on matters related to national boating safety.

If you are selected as a member drawn from the general public, you will be appointed and serve as a Special Government Employee as defined in Title 18, U.S.C section 202(a). Applicants for appointment as a Special Government Employee are required to complete a Confidential Financial Disclosure Report (OGE Form 450) for new entrants and if appointed as a member must submit Form 450 annually. The Coast Guard may not release the reports or the information in them to the public except under an order issued by a Federal Court or as otherwise provided under the Privacy Act (5 U.S.C 552a). Only the Designated U.S. Coast Guard Ethics Official or his or her designee may release a Confidential Financial Disclosure Report. Applicants can obtain this form by going to the website of the Office of Government Ethics (www.oge.gov), or by calling or emailing the individual listed above in the FOR FURTHER INFORMATION CONTACT section. Applications for member drawn from the general public must be accompanied by a completed OGE Form 450.

Registered lobbyists are not eligible to serve on Federal Advisory Committees in an individual capacity. See “Revised Guidance on Appointment of Lobbyists to Federal Advisory Committees, Boards and Commissions” (79 FR 47482, August 13, 2014). Registered lobbyists are “lobbyists,” as defined in 2 U.S.C. 1602, who are required by 2 U.S.C. 1603 to register with the Secretary of the Senate and the Clerk of the House of Representatives.

The Department of Homeland Security does not discriminate in selection of Committee members on the basis of race, color, religion, sex, national origin, political affiliation, sexual orientation, gender identity, marital status, disabilities and genetic information, age, membership in an employee organization, or any other non-merit factor. The Department of Homeland Security strives to achieve a widely diverse candidate pool for all of its recruitment selections.

If you are interested in applying to become a member of the Committee, send your cover letter and resume to Mr. Jeff Decker, Alternate Designated Federal Officer of the National Boating Safety Advisory Committee via one of the transmittal methods in the ADDRESSES section by the deadline in the DATES section of this notice.

If you send your application to us via email, we will send you an email confirming receipt of your application.

Dated: January 31, 2020.
David C. Barata,
Captain, U.S. Coast Guard, Director of Inspections and Compliance.

[FR Doc. 2020-02237 Filed 2-4-20; 8:45 am]

BILLING CODE 9110-04-P